DEPARTMENT OF DEFENSE

GENERAL SERVICES ADMINISTRATION

NATIONAL AERONAUTICS AND SPACE ADMINISTRATION

48 CFR Part 52

[FAC 2005-03; Item III]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial corrections.

DATES: Effective Date: April 11, 2005.

FOR FURTHER INFORMATION CONTACT: The FAR Secretariat, Room 4035, GS Building, Washington, DC, 20405, (202) 501-4755, for information pertaining to status or publication schedules. Please cite FAC 2005-03, Technical Amendments.

List of Subjects in 48 CFR Part 52

Government procurement.

Dated: April 1, 2005.
Rodney P. Lantier,
Director, Contract Policy Division, General Services Administration.

Therefore, DoD, GSA, and NASA amend 48 CFR part 52 as set forth below:

PART 52—SOLICITATION PROVISIONS AND CONTRACT CLAUSES

1. The authority citation for 48 CFR part 52 is revised to read as follows:

Authority: 40 U.S.C. 121(c); 10 U.S.C. chapter 137; and 42 U.S.C. 2473(c).

52.212-5 [Amended]

2. Amend section 52.212-5 by revising the date of the clause to read “(APR 2005)”; and by removing from paragraph (b)(26) “(DEC 2003)” and adding “(MAR 2005)” in its place.

52.213-4 [Amended]

3. Amend section 52.213-4 by revising the date of the clause to read “(APR 2005)”; and by removing from paragraph (a)(1)(iv) “(DEC 2003)” and adding “(MAR 2005)” in its place.

52.219-18 [Amended]

4. Amend section 52.219-18, in Alternate I, by removing “(Nov 1989)” and adding “(Apr 2005)” in its place; removing “subparagraph (a)(4)” and adding “paragraph (a)(3)” in its place; and removing the paragraph designation “(4)” and adding “(3)” in its place.

52.225-13 [Amended]

5. Amend section 52.225-13 by removing from the clause heading “(DEC 2003)” and adding “(MAR 2005)” in its place.

[FR Doc. 05-6867 Filed 4-8-05; 8:45 am]

BILLING CODE 6820-EP-S